DEPARTMENT OF JUSTICE

Notice of Lodging Consent Decree Under the Safe Drinking Water Act, 42 U.S.C. § 300f et seq.

Notice is hereby given that on May 11, 2000, two proposed Consent Decrees (“Decrees”) in the United States v. Natural Gas Processing Company and KCS Resources, Inc. d/b/a/ Mountain Resources, Inc., Civ. Action No. CV 00-65-RFC, were lodged with the United States District Court for the District of Montana, Great Falls Division. The United States filed this action pursuant to Section 1423(b) of the Safe Drinking Water Act (“SDWA”), 42 U.S.C. § 300h-2(b), seeking injunctive relief and civil penalties for the Defendants' violation of various provisions of Part C of the SDWA and of 40 CFR part 144.

The proposed Consent Decree with the Natural Gas Processing Company (“NGP”) requires NGP to pay a civil penalty of $54,000, including interest. The proposed Consent Decree with KCS Resources, Inc. d/b/a/ Mountain Resources, Inc. (“KCS”) requires KCS to pay a civil penalty of $25,000, including interest, and to perform a Supplemental Environmental Project involving the plugging of one or more abandon Class II Underground Injection Control wells in Montana.

The Department of Justice will receive for a period of thirty (30) days from the date of this publication comments relating to the Decrees. Comments should be addressed to the Assistant Attorney General of the Environment and Natural Resources Division, Department of Justice, 950 Pennsylvania Avenue NW., Washington, DC 20530, and should refer to United States v. Natural Gas Processing Company and KCS Resources Inc. d/b/a Mountain Resources, Inc., Civ. Action No. CV 00-65-RFC, and D.J. Ref. #90-5-1-1-4401.

The Decree may be examined at the United States Department of Justice, Environment and Natural Resources Division, Denver Field Office, 999 18th Street, North Tower Suite 945, Denver, Colorado 80202 and the U.S. EPA Region VIII, 999 18th Street, Denver, Colorado 80202. Copies of the Decrees may be obtained by mail from the Consent Decree Library, Department of Justice, P.O. Box 7611, Washington, DC 20044-7611. In requesting a copy, please enclose a check in the amount of $4.25 for the Natural Gas Processing Company Decree and $11.25 for the KCS Mountain Resources, Inc. Decree (25 cents per page reproduction cost) payable to the Consent Decree Library.

Joel M. Gross,
Chief, Environmental Enforcement Section, Environmental and Natural Resources Division.

[FR Doc. 00-13904 Filed 6-2-00; 8:45 am]

BILLING CODE 4410-15-M